DEPARTMENT OF JUSTICE

Antitrust Division

Notice Pursuant to the National Cooperative Research and Production Act of 1993—Cable Television Laboratories, Inc.

Notice is hereby given that, on August 1, 2013, pursuant to Section 6(a) of the National Cooperative Research and Production Act of 1993, 15 U.S.C. 4301 et seq. (“the Act”), Cable Television Laboratories, Inc. (“CableLabs”) has filed written notifications simultaneously with the Attorney General and the Federal Trade Commission disclosing the changes to its membership. The notifications were filed for the purpose of extending the Act's provisions limiting the recovery of antitrust plaintiffs to actual damages under specified circumstances. Specifically, the following have been added as parties to this venture: Cableuropa, S.A.U. (“ONO”), Madrid, SPAIN; Com Hem AB, Stockholm, SWEDEN; Get AS, Oslo, NORWAY; Jupiter Telecommunications Co., Ltd., Tokyo, JAPAN; Kabel Deutschland Vertrieb und Services GmbH, Munich, GERMANY; LIWEST Kabelmedien GmbH, Linz, AUSTRIA; PT Link Net, Jakarta, INDONESIA; Shenzhen Topway Video Communication Co., Ltd., Shenzhen, Guangdong, PEOPLE'S REPUBLIC OF CHINA; TDC A/S (“YouSee”), Copenhagen, DENMARK; Tele Columbus GmbH, Berlin, GERMANY; WASU Digital TV Media Group Co., Ltd., Hangzhou, Zhejiang, PEOPLE'S REPUBLIC OF CHINA; Ziggo B.V., Utrecht, NETHERLANDS; and ZON TV Cabo Portugal, S.A., Lisbon, PORTUGAL.

No other changes have been made in either the membership or planned activity of the group research project. Membership in this group research project remains open, and CableLabs intends to file additional written notifications disclosing all changes in membership.

On August 8, 1988, CableLabs filed its original notification pursuant to Section 6(a) of the Act. The Department of Justice published a notice in the Federal Register pursuant to Section 6(b) of the Act on September 7, 1988 (53 FR 34593).

The last notification was filed with the Department on July 9, 2013. A notice was published in the Federal Register pursuant to Section 6(b) of the Act on August 15, 2013 (78 FR 49770).

Patricia A. Brink,
Director of Civil Enforcement, Antitrust Division.

[FR Doc. 2013-21312 Filed 8-30-13; 8:45 am]

BILLING CODE P